DEPARTMENT OF AGRICULTURE

Grain Inspection, Packers and Stockyards Administration

[00-C]

Designation for the East Indiana (IN) Area

AGENCY: Grain Inspection, Packers and Stockyards Administration (GIPSA).

ACTION: Notice.

SUMMARY: GIPSA announces designation of East Indiana Grain Inspection, Inc. (East Indiana) to provide official services under the United States Grain Standards Act, as amended (Act), for a 1-year term, September 1, 2000, though August 31, 2001.

EFFECTIVE DATE: September 1, 2000.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525.

SUPPLEMENTARY INFORMATION: This action has been reviewed and determined not to be a rule or regulation as defined in Executive Order 12866 and Departmental Regulation 1512-1; therefore, the Executive Order and Departmental Regulation do not apply to this action.

In the December 1, 1999, Federal Register (64 FR 67246), GIPSA asked persons interested in providing official services in the geographic area assigned to East Indiana to submit an application for designation. Applications were due by December 30, 1999. Since East Indiana was the sole applicant for designation to provide official services in the entire area currently assigned to them, GIPSA did not ask for comments on the applicant.

GIPSA evaluated all available information regarding the designation criteria in section 7(f)(l)(A) of the Act and, according to section 7(f)(l)(B), determined that East Indiana is able to provide official services in the geographic area, specified in the December 1, 1999, Federal Register, for which they applied. We are granting the 1-year designation to allow East Indiana time to complete the requirements for compliance with the national quality database. Interested persons may obtain official services by calling East Indiana at 765-289-1206.

Authority: Pub. L. 94-582, 90 Stat. 2867, as amended (7 U.S.C. 71 et seq.).

Dated: June 14, 2000.
Neil E. Porter,
Director, Compliance Division.

[FR Doc. 00-16542 Filed 6-30-00; 8:45 am]

BILLING CODE 3410-EN-P